DEPARTMENT OF ENERGY

Federal Energy Regulatory Commission

18 CFR Parts 35, 131, 154, 157, 250, 281, 284, 300, 341, 344, 346, 347, 348, 375, and 385

[Docket No. RM01-5-000]

Electronic Tariff Filings

May 10, 2005.

AGENCY: Federal Energy Regulatory Commission.

ACTION: Notice of technical conference date change.

SUMMARY: The date of the staff technical conference on the electronic tariff and rate case filing software has been changed to June 1, 2005. This conference will address issues relating to the Commission's July 8, 2004 Notice of Proposed Rulemaking requiring electronic tariff filings (69 FR 43929).

DATES: June 1, 2005 Technical conference.

ADDRESSES: The meeting will be held at the Federal Energy Regulatory Commission, 888 First Street, NE., Washington, DC 20426 in Hearing Room 1.

FOR FURTHER INFORMATION CONTACT: H. Keith Pierce (Technical Information), Office of Markets, Tariffs, and Rates, Federal Energy Regulatory Commission, 888 First Street, NE., Washington, DC 20426. (202) 502-8525. Keith.Pierce@ferc.gov.

SUPPLEMENTARY INFORMATION:

Notice of Technical Conference Date Change to June 1, 2005

Take notice that the date of the staff technical conference in this docket has been changed to June 1, 2005. The conference will address the electronic tariff and rate case filing software that has been developed in connection with the Commission's Notice of Proposed Rulemaking requiring electronic tariff filings. Electronic Tariff Filings, Notice of Proposed Rulemaking, 69 FR 43929 (July 23, 2004) FERC Stats. & Regs., Proposed Regulations ¶ 32,575 (July 8, 2004).

The date of the technical conference has been changed to June 1 because certain interest group members would not be able to attend the previously scheduled May 24, 2005 conference ¹ and requested that the conference be rescheduled. All major trade associations for the gas, electric, and oil industries have been contacted and are comfortable with the June 1 date. The technical conference will be held from 9 a.m. until 4 p.m. (EST) at the Federal Energy Regulatory Commission, 888 First Street, NE., Washington, DC 20426 in Hearing Room 1.

¹ See 70 FR 23945 (May 6, 2005).

The Capitol Connection offers the opportunity for remote listening and viewing of the conference. It is available for a fee, live over the Internet, via C-Band Satellite. Persons interested in receiving the broadcast, or who need information on making arrangements should contact David Reininger or Julie Morelli at the Capitol Connection ((703) 993-3100) as soon as possible or visit the Capitol Connection Web site at http://www.capitolconnection.gmu.edu and click on “FERC”.

The conference is open to the public to attend, and pre-registration is not required.

FERC conferences are accessible under section 508 of the Rehabilitation Act of 1973. For accessibility accommodations please send an e-mail to accessibility@ferc.gov or call toll free 1-866-208-3372 (voice) or (202) 208-1659 (TTY), or send a fax to (202) 208-2106 with the required accommodations.

For more information about this conference, please contact Keith Pierce, Office of Markets, Tariffs and Rates at (202) 502-8525 or Keith.Pierce@ferc.gov.

Linda Mitry
Deputy Secretary

[FR Doc. 05-9802 Filed 5-16-05; 8:45 am]

BILLING CODE 6717-01-M